NATIONAL AERONAUTICS AND SPACE ADMINISTRATION

[Notice: (17-028)]

Renewal of the Charter of the National Space-Based Positioning, Navigation, and Timing Advisory Board

AGENCY: National Aeronautics and Space Administration (NASA).

ACTION: Notice.

SUMMARY: Notice is hereby given that in accordance with the National Security Presidential Directive (NSPD-39) dated December 8, 2004, and continued under Executive Order 13708 dated September 30, 2015, it has been determined that continuation of the National Space-Based Positioning, Navigation, and Timing (PNT) Advisory Board is necessary and in the public interest. Accordingly, NASA has renewed the charter of the National Space-Based PNT Advisory Board.

FOR FURTHER INFORMATION CONTACT: Mr. James J. Miller, Designated Federal Official (DFO) and Deputy Director of Policy and Strategic Communications, Space Communications and Navigation, Human Exploration and Operations Mission Directorate, NASA Headquarters, Washington, DC 20546, telephone 202-358-4417, email jj.miller@nasa.gov.

SUPPLEMENTARY INFORMATION: The National Space-Based PNT Advisory Board will continue to provide advice on U.S. space-based PNT policy, planning, program management, and funding profiles in relations to the current state of national and international space-based PNT services. The National Space-Based PNT Advisory Board will continue to function solely as an advisory body and comply fully with the provisions of the Federal Advisory Committee Act (FACA), as amended, 5 U.S.C. App. 2. The charter is being filed with the U.S. General Services Administration, appropriate oversight committees of the U.S. Congress, and the Library of Congress.

Patricia D. Rausch,
Advisory Committee Management Officer, National Aeronautics and Space Administration.

[FR Doc. 2017-11280 Filed 5-31-17; 8:45 am]

BILLING CODE 7510-13-P